ENVIRONMENTAL PROTECTION AGENCY

40 CFR Part 271

[FRL-8322-4]

Ohio: Final Authorization of State Hazardous Waste Management Program Revision

AGENCY: Environmental Protection Agency (EPA).

ACTION: Proposed rule.

SUMMARY: Ohio has applied to EPA for final authorization of the changes to its hazardous waste program under the Resource Conservation and Recovery Act (RCRA). EPA has reviewed Ohio's application and has preliminarily determined that these changes satisfy all requirements needed to qualify for final authorization, and is proposing to authorize the State's changes.

DATES: Comments on this proposed rule must be received on or before July 6, 2007.

ADDRESSES: Submit your comments, identified by Docket ID No. EPA-R05-RCRA-2007-0397 by one of the following methods: http://www.regulations.gov: Follow the on-line instructions for submitting comments.

E-mail: westefer.gary@epa.gov.

Mail: Gary Westefer, Ohio Regulatory Specialist, DM-7J, U.S. EPA, Region 5, 77 West Jackson Boulevard, Chicago, Illinois 60604.

Instructions: Direct your comments to Docket ID Number EPA-R05-RCRA-2007-0397. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption, and be free of any defects or viruses. For additional information about EPA's public docket, visit the EPA Docket Center homepage at http://www.epagov/epahome/dockets.htm.

Docket: All documents in the docket are listed in the www.regulations.gov index. Although listed in the index, some of the information is not publicly available, e.g., CBI or other information whose disclosure is restricted by statute. Certain other material, such as copyrighted material, will be publicly available only in hard copy. Publicly available docket materials are available either electronically in http://www.regulations.gov or in hard copy. You may view and copy Ohio's application from 9 a.m. to 4 p.m. at the following addresses: U.S. EPA Region 5, DM-7J, 77 West Jackson Boulevard, Chicago, Illinois, contact: Gary Westefer (312) 886-7450; or Ohio Environmental Protection Agency, Lazarus Government Center, 50 West Town Street, Suite 700, Columbus, Ohio, contact: Jeff Mayhugh (614) 644-2950.

FOR FURTHER INFORMATION CONTACT: Gary Westefer, Ohio Regulatory Specialist, U.S. EPA Region 5, DM-7J, 77 West Jackson Boulevard, Chicago, Illinois 60604, (312) 886-7450, e-mail westefer.gary@epa.gov.

SUPPLEMENTARY INFORMATION:

A. Why Are Revisions to State Programs Necessary?

States which have received final authorization from EPA under RCRA section 3006(b), 42 U.S.C. 6926(b), must maintain a hazardous waste program that is equivalent to, consistent with, and no less stringent than the Federal program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260 through 266, 268, 270, 273 and 279.

B. What Decisions Have We Made in This Rule?

We conclude that Ohio's application to revise its authorized program meets all of the statutory and regulatory requirements established by RCRA. Therefore, we propose to grant Ohio final authorization to operate its hazardous waste program with the changes described in the authorization application. Ohio has responsibility for permitting Treatment, Storage, and Disposal Facilities (TSDFs) within its borders (except in Indian Country) and for carrying out the aspects of the RCRA program described in its revised program application, subject to the limitations of the Hazardous and Solid Waste Amendments of 1984 (HSWA). New Federal requirements and prohibitions imposed by Federal regulations that EPA promulgates under the authority of HSWA take effect in authorized States before they are authorized for the requirements. Thus, EPA will implement those requirements and prohibitions in Ohio, including issuing permits, until the State is granted authorization to do so.

C. What Is the Effect of Today's Authorization Decision?

The effect of this decision is that a facility in Ohio subject to RCRA will now have to comply with the authorized State requirements instead of the equivalent Federal requirements in order to comply with RCRA. Ohio has enforcement responsibilities under its State hazardous waste program for violations of such program, but EPA retains its authority under RCRA sections 3007, 3008, 3013, and 7003, which include, among others, authority to:

1. Do inspections, and require monitoring, tests, analyses or reports

2. Enforce RCRA requirements and suspend or revoke permits

3. Take enforcement actions regardless of whether the State has taken its own actions

This action does not impose additional requirements on the regulated community because the regulations for which Ohio is being authorized by today's action are already effective, and are not changed by today's action.

D. What Happens if EPA Receives Comments That Oppose This Action?

If EPA receives comments that oppose this authorization, we will address all public comments in a later Federal Register. You may not have another opportunity to comment. If you want to comment on this authorization, you must do so at this time.

E. What Has Ohio Previously Been Authorized for?

Ohio initially received final authorization on June 28, 1989, effective June 30, 1989 (54 FR 27170) to implement the RCRA hazardous waste management program. We granted authorization for changes to their program on April 8, 1991, effective June 7, 1991 (56 FR 14203) as corrected June 19, 1991, effective August 19,1991 (56 FR 28088); July 27, 1995, effective September 25, 1995 (60 FR 38502); October 23, 1996, effective December 23, 1996 (61 FR 54950); January 24, 2003, effective January 24, 2003 (68 FR 3429); and January 20, 2006, effective January 20, 2006 (71 FR 3220).

F. What Changes Are We Authorizing With Today's Action?

On January 22, 2007, Ohio submitted a final complete program revision application, seeking authorization of their changes in accordance with 40 CFR 271.21. We now make a final decision, subject to receipt of written comments that oppose this action, that Ohio's hazardous waste program revision satisfies all of the requirements necessary to qualify for Final authorization. Therefore, we propose to grant Ohio final authorization for the following program changes:

Table 1.—Ohio's Analogs to the Federal Requirements
Description of federal requirement (include checklist #, if relevant) | Federal Register date and page (and/or RCRA statutory authority) | Analogous state authority
Toxicity Characteristic; Hydrocarbon Recovery Operations Checklist 80 as amended | October 5, 1990, 55 FR 40834 | OAC 3745-51-04; Effective April 15, 1993.
Checklist 80.1 as amended | February 1, 1991, 56 FR 3978
Checklist 80.2 | April 2, 1991, 56 FR 13406
Burning of Hazardous Waste in Boilers and Industrial Furnaces Checklist 85 | February 21, 1991, 56 FR 7134 | OAC 3745-50-10; 3745-50-11; 3745-50-40; 3745-50-44; 3745-50-51; 3745-50-66; 3745-51-02; 3745-51-04; 3745-51-06; 3745-55-12; 3745-57-40; 3745-66-12; 3745-66-13; 3745-68-40; 3745-266-100; 3745-266-101; 3745-266-102; 3745-266-103; 3745-266-104; 3745-266-105; 3745-266-106; 3745-266-107; 3745-266-108; 3745-266-109; 3745-266-110; 3745-266-111; 3745-266-112; Effective December 7, 2004.
Burning of Hazardous Waste in Boilers and Industrial Furnaces; Corrections and Technical Amendments I Checklist 94 | July 17, 1991, 56 FR 32688 | OAC 3745-50-40; 3745-50-44; 3745-50-51; 3745-50-66; 3745-51-03; 3745-51-06; 3745-68-70; 3745-266-100; 3745-266-102; 3745-266-103; 3745-266-104; 3745-266-106; 3745-266-107; 3745-266-108; 3745-266-109; 3745-266-110; 3745-266-112; Effective December 7, 2004.
Burning of Hazardous Waste in Boilers and Industrial Furnaces Technical Amendments II Checklist 96 | August 27, 1991, 56 FR 42504 | OAC 3745-51-02; 3745-66-12; 3745-66-13; 3745-266-100; 3745-266-102; 3745-266-103; 3745-266-104; 3745-266-108; 3745-266-109; 3745-266-110; 3745-266-111; 3745-266-112; Effective December 7, 2004.
Coke Ovens Administrative Stay Checklist 98 | September 5, 1991, 56 FR 43754 | OAC 3745-266-100; Effective December 7, 2004.
Liners and Leak Detection Systems for Hazardous Waste Land Disposal Units Checklist 100 | January 29, 1992, 57 FR 3462 | OAC 3745-50-10; 3745-50-44; 3745-54-15; 3745-54-19; 3745-54-73; 3745-56-21; 3745-56-22; 3745-56-23; 3745-56-26; 3745-56-28; 3745-56-51; 3745-56-52; 3745-56-53; 3745-56-54; 3745-57-02; 3745-57-03; 3745-57-04; 3745-57-06; 3745-57-10; 3745-65-15; 3745-65-19; 3745-65-73; 3745-67-21; 3745-67-22; 3745-67-23; 3745-67-26; 3745-67-28; 3745-67-54; 3745-67-55; 3745-67-59; 3745-67-60; 3745-68-02; 3745-68-03; 3745-68-04; 3745-68-05; 3745-68-10; Effective December 7, 2004.
Coke by-product Exclusion Checklist 105 | June 22, 1992, 57 FR 27880 | OAC 3745-51-04; 3745-266-100; Effective December 7, 2004.
Burning of Hazardous Waste in Boilers and Industrial Furnaces; Technical Amendment III Checklist 111 | August 25, 1992, 57 FR 38558 | OAC 3745-50-10; 3745-50-11; 3745-51-02; 3745-54-01; 3745-65-01; 3745-266-100; 3745-266-101; 3745-266-103; 3745-266-104; 3745-266-106; 3745-266-107; 3745-266-108; 3745-266-112; Effective December 7, 2004.
Burning of Hazardous Waste in Boilers and Industrial Furnaces; Amendment IV Checklist 114 | September 30, 1992, 57 FR 44999 | OAC 3745-266-103; Effective December 7, 2004.
Corrective Action Management Units and Temporary Units; Corrective Action Provisions Under Subtitle C Checklist 121 | February 16, 1993, 58 FR 8658 | OAC 3745-50-10; 3745-50-51; 3745-54-03; 3745-55-011; 3745-57-72; 3745-57-73; 3745-65-01; 3745-270-02; Effective December 7, 2000.
Requirements for Preparation, Adoption and Submittal of Implementation Plans Checklist 125 | July 20, 1993, 58 FR 38816 | OAC 3745-50-11; 3745-266-104; 3745-266-106; Effective December 7, 2004.
Hazardous Waste Management System; Testing and Monitoring Activities Checklist 126 as amended | August 31, 1993, 58 FR 46040 | OAC 3745-50-11; 3745-50-19; 3745-50-44; 3745-50-62; 3745-50-66; 3745-51-20; 3745-51-22; 3745-51-24; 3745-55-90; 3745-57-14; 3745-66-90; 3745-68-14; 3745-270-07; Effective December 7, 2004.
Checklist 126.1 | September 19, 1994, 59 FR 47980 | 3745-270-40; Effective February 8, 2005.
Burning of Hazardous Waste in Boilers and Industrial Furnaces, Revised Bevill Exemption Levels Checklist 127 | November 9, 1993, 58 FR 59598 | OAC 3745-266-112; Effective December 7, 2004.
Solid Waste, Hazardous Waste, Oil Discharge and Superfund Programs; Removal of Legally Obsolete Rules Checklist 144 | June 29, 1995, 60 FR 33912 | OAC 3745-50-10; 3745-50-40; 3745-51-31; 375-266-103; 3745-266-104; Effective December 7, 2004.
RCRA Expanded Public Participation Checklist 148 | December 11, 1995, 60 FR 63417 | OAC 3745-50-10; 3745-50-39; 3745-50-44; 3745-50-57; 3745-50-58; 3745-50-62; 3745-50-66; Effective December 7, 2004.
Military Munitions Rule: Hazardous Waste Identification and Management; Explosives Emergencies; Manifest Exemption for Transport of Hazardous Waste on Right-of-Ways on Contiguous Properties Checklist 156 | February 12, 1997, 62 FR 6622 | OAC 3745-50-10; 3745-50-45; 3745-50-51; 3745-51-02; 3745-52-10; 3745-52-20; 3745-53-10; 3745-54-01; 3745-54-70; 3745-65-01; 3745-65-70; 3745-205-200; 3745-205-201; 3745-205-202; 3745-256-200; 3745-256-201; 3745-256-202; 3745-266-200; 3745-266-201; 3745-266-202; 3745-266-203; 3745-266-204; 3745-266-205; 3745-266-206; Effective December 7, 2004.
Hazardous Waste Management System; Testing and Monitoring Activities Checklist 158 | June 13, 1997, 62 FR 32452 | OAC 3745-50-51; 3745-266-103; 3745-266-104; 3745-266-106; 3745-266-107; Effective December 7, 2004.
Kraft Mill Steam Stripper Condensate Exclusion Checklist 164 | April 15, 1998, 63 FR 18504 | OAC 3745-51-03; 3745-51-04; 3745-51-06; 3745-51-30; 3745-51-31; 3745-51-32; 3745-266-100; Effective December 7, 2004; 3745-270-40; Effective February 8, 2005.
Standards Applicable to Owners/Operators of Closed and Closing Hazardous Waste Management Facilities: Post-Closure Permit Requirement and Closure Process Checklist 174 | October 22, 1998, 63 FR 56709 | OAC 3745-50-44; 3745-50-45; 3745-54-90; 3745-55-10; 3745-55-12; 3745-55-18; 3745-55-40; 3745-65-90; 3745-66-10; 3745-66-12; 3745-66-18; 3745-66-21; 3745-66-40; Effective December 7, 2004.
Hazardous Remediation Waste Management Requirements Checklist 175 | November 30, 1998, 63 FR 65873 | OAC 3745-50-10; 3745-50-40; 3745-50-42; 3745-50-51; Effective December 7, 2004.
Universal Waste Rule Technical Amendment Checklist 176 | December 24, 1998, 63 FR 71225 | OAC 3745-266-80; 3745-273-09; Effective December 7, 2004.
Guidelines Establishing Test Procedures for the Analysis of Oil and Grease and Non-Polar Material Under the CWA and RCRA Checklist 180 | May 14, 1999, 64 FR 26315 | OAC 3745-50-11; Effective December 7, 2004.
Universal Waste: Lamp Rule Checklist 181 | July 6, 1999, 64 FR 36465 | OAC 3745-50-10; 3745-50-45; 3745-51-09; 3745-54-01; 3745-54-100; 3745-270-01; 3745-273-01; 3745-273-02; 3745-273-03; 3745-273-04; 3745-273-05; 3745-273-06; 3745-273-08; 3745-273-09; 3745-273-10; 3745-273-13; 3745-273-14; 3745-273-30; 3745-273-32; 3745-273-33; 3745-273-34; 3745-273-50; 3745-273-60; 3745-273-81; Effective December 7, 2004.
NESHAPS: Final Standards for Hazardous Air Pollutants for Hazardous Waste Combustors Checklist 182 as amended Checklist 182.1. | September 30, 1999, 64 FR 52827 November 19, 1999, 64 FR 63209. | OAC 3745-50-10; 3745-50-44; 3745-50-51; 3745-50-62; 3745-50-66; 3745-51-38; 3745-57-40; 3745-57-91; 3745-68-40; 3745-266-100; 3745-266-101; 3745-266-105; 3745-266-112; Effective July 27, 2001 and December 7, 2004.
Wastewater Treatment Sludges from the Metal Finishing Industry; 180 Day Accumulation Time Checklist 184 | March 8, 2000, 65 FR 12377 | OAC 3745-52-34; Effective December 7, 2004.
NESHAPS: Final Standards for Hazardous Air Pollutants for Hazardous Waste Combustors; Technical Corrections Checklist 188 as amended Checklist 188.2. | July 10, 2000, 65 FR 42292 July 3, 2001, 66 FR 35087. | OAC 3745-50-51; 3745-51-38; 3745-57-40; Effective July 27, 2001.
Hazardous Waste Management System; Identification and Listing of Hazardous Waste; Chlorinated Aliphatics Production Wastes; Land Disposal Restrictions for Newly Identified Wastes; and CERCLA Hazardous Substance Designation and Reportable Quantities Checklist 189 | November 8, 2000, 65 FR 67067 | OAC 3745-51-11; 3745-51-30; 3745-51-32; 3745-270-33; 3745-270-48; Effective December 7, 2004; 3745-270-40; Effective February 8, 2005.
Storage, Treatment, Transportation, and Disposal of Mixed Waste Checklist 191 | May 16, 2001, 66 FR 27217 | OAC 3745-266-210; 3745-266-220; 3745-266-235; 3745-266-240; 3745-266-250; 3745-266-255; 3745-266-260; 3745-266-305; 3745-266-310; 3745-266-315; 3745-266-345; 3745-266-350; 3745-266-355; Effective December 7, 2004.
Revisions to the Mixture and Derived-From Rule Checklist 192A | May 16, 2001, 66 FR 27266 | OAC 3745-51-03; Effective December 7, 2004.
Land Disposal Restrictions Correction Checklist 192B | May 16, 2001, 66 FR 27266 | OAC 3745-270-42; Effective December 7, 2004.
Change of EPA Mailing Address Checklist 193 | June 28, 2001, 66 FR 34734 | OAC 3745-50-11; Effective December 7, 2004.
Correction to the Hazardous Waste Identification Rule (HWIR): Revisions to the Mixture and Derived-From Rules Checklist 194 as amended | October 3, 2001, 66 FR 50332 | OAC 3745-51-03; Effective December 7, 2004.
Checklist 194.1 | December 3, 2001, 66 FR 60153.
Identification and Listing of Hazardous Waste: Inorganic Chemical Manufacturing Wastes Checklist 195 as amended | November 20, 2001, 66 FR 58257 | OAC 3745-51-04; 3745-51-30; 3745-51-32; 3745-270-36; Effective December 7, 2004.
Checklist 195.1 | April 9, 2002, 67 FR 17119 | 3745-270-40; February 8, 2005.
CAMU Amendments Checklist 196 | January 22, 2002, 67 FR 2962 | OAC 3745-50-10; 3745-57-70; 3745-57-71; 3745-57-72; 3745-57-74; 3745-57-75; Effective December 7, 2004.

Table 2.—Equivalent State Initiated Changes
Ohio amendment | Description of change | Sections affected and effective date
Recycled Used Oil Management Standards Checklist 112, 57 FR 41566 | Adds Federal Equivalent of 40 CFR 266.100 to Ohio's authorized Used Oil Rule | OAC 3745-266-100; Effective December 7, 2004.
Recovered Oil Exclusion; Petroleum Refining Industry Checklist 135, 59 FR 38536 | Adds Federal Equivalent of 40 CFR 266.100 to Ohio's authorized Used Oil Rule | OAC 3745-51-03; 3745-51-06; 3745-266-100; Effective December 7, 2004.
Land Disposal Restrictions—Phase II—Universal Treatment Standards and Treatment Standards for Organic Toxicity Characteristics Wastes and Newly Listed Waste Checklist 137, 59 FR 47982 | Adds Federal Equivalent of 40 CFR 266.100 to Ohio's authorized Land Disposal Restrictions—Universal Treatment Standards Rule | OAC 3745-266-100; Effective December 7, 2004.
Petroleum Refining Process Wastes Checklist 169, 63 FR 42110 as amended 63 FR 54356 | Adds Federal Equivalent of 40 CFR 266.100 to Ohio's authorized Petroleum Refining Process Wastes Rule | OAC 3745-266-100; Effective December 7, 2004.
SB11 | State Register, electronic rule filing, changes to JCARR jurisdiction and public notice requirements | None. Effective September 15, 1999.
SB265 | Changes per SB265 (PUCO case fix); bill effective 10/17/2002 | OAC 3745-50-10; 3745-50-11; 3745-50-19; 3745-50-38; 3745-50-39; 3745-50-40; 3745-50-41; 3745-50-43; 3745-50-44; 3745-50-46; 3745-50-51; 3745-50-53; 3745-50-62; 3745-50-66; 3745-51-03; 3745-51-04; 3745-51-05; 3745-51-06; 3745-51-08; 3745-51-11; 3745-51-20; 3745-51-21; 3745-51-22; 3745-51-23; 3745-51-24; 3745-51-30; 3745-51-32; 3745-51-35; 3745-51-38; 3745-52-10; 3745-52-11; 3745-52-12; 3745-52-20; 3745-52-34; 3745-52-53; 3745-52-54; 3745-52-56; 3745-53-20; 3745-53-30; 3745-54-01; 3745-54-13; 3745-54-18; 3745-54-52; 3745-54-73; 3745-54-98; 3745-55-12; 3745-55-13; 3745-55-42; 3745-55-43; 3745-55-45; 3745-55-51; 3745-55-75; 3745-55-90; 3745-55-93; 3745-55-98; 3745-56-21; 3745-56-51; 3745-57-03; 3745-57-14; 3745-57-40; 3745-57-71; 3745-57-72; 3745-57-73; 3745-54-74; 3745-57-75; 3745-57-91; 3745-65-01; 3745-65-13; 3745-65-52; 3745-65-73; 3745-66-13; 3745-66-42; 3745-66-43; 3745-66-44; 3745-66-45; 3745-66-47; 3745-66-48; 3745-66-90; 3745-66-93; 3745-66-96; 3745-66-98; 3745-66-101; 3745-68-05; 3745-68-14; 3745-68-40; 3745-69-30; 3745-205-101; 3745-266-20; 3745-266-23; 3745-266-100; 3745-266-102; 3745-266-103; 3745-266-104; 3745-266-105; 3745-266-106; 3745-266-107; 3745-266-109; 3745-266-111; 3745-266-112; 3745-266-201; 3745-266-203; 3745-266-205; 3745-266-210; 3745-266-240; 3745-266-250; 3745-266-315; 3745-266-345; 3745-266-350; 3745-270-01; 3745-270-02; 3745-270-03; 3745-270-04; 3745-270-07; 3745-270-31; 3745-270-42; 3745-270-45; 3745-270-48; 3745-270-50; 3745-273-03; 3745-273-09; 3745-273-13; 3745-273-14; 3745-273-33; 3745-273-34; 3745-273-81; 3745-279-10; 3745-279-11; 3745-279-22; 3745-279-42; 3745-279-43; 3745-279-45; 3745-279-51; 3745-279-54; 3745-279-55; 3745-279-62; 3745-279-64; 3745-279-73; Effective December 7, 2004; 3745-270-40; Effective February 8, 2005.
HB432 Section 4 | HB432, Hazardous Waste permit length changed to ten years, bill effective April 15, 2005 | OAC 3745-50-54; Effective 10/14/2006.
CL-FLAM | References to “Flammable and Combustable Liquids Code” | OAC 3745-50-11; 3745-55-98; 3745-66-98; 3745-66-101; 3745-266-111; Effective December 7, 2004.
CL-FORM | Manifest form number corrections, and other form number corrections | OAC 3745-52-12; 3745-52-41; 3745-53-11; 3745-54-01; 3745-279-42; 3745-279-51; 3745-279-62; 3745-279-73; Effective December 7, 2004.
CL-HWFB | Removal of “HWFB” concept, and addition of authorities to DHWM rules, per HB95 (budget bill, HB95, effective 9/26/2003) | OAC 3745-50-10; 3745-50-11; 3745-50-21; 3745-50-30; 3745-50-38; 3745-50-40; 3745-50-41; 3745-50-51; 3745-66-43; Effective December 7, 2004.
CL-3010 | References to “RCRA 3010” and its prior locations (includes Region 5's comments on the YR5 (J5) set on this subject) | OAC 3745-50-40; 3745-51-01; 3745-51-04; 3745-51-06; 3745-51-07; 3745-51-08; 3745-51-20; 3745-57-83; 3745-266-21; 3745-266-22; 3745-266-23; 3745-266-70; 3745-266-80; 3745-273-60; 3745-279-42; 3745-279-51; 3745-279-62; 3745-279-73; Effective December 7, 2004.
CL-R5COM | Region 5's comments on the YR5 (J5) rules (not including the “RCRA 3010” comments) | OAC 3745-50-10; Effective 12/07/04.
CL-MEGA | Cross-reference of subparts errors, inconsistencies, typos, etc. grouped with Set G (MegaSet) | OAC 3745-50-01; 3745-50-10; 3745-50-40; 3745-50-41; 3745-50-42; 3745-50-43; 3745-50-44; 3745-50-45; 3745-50-46; 3745-50-48; 3745-50-51; 3745-50-53; 3745-50-57; 3745-50-58; 3745-50-62; 3745-51-01; 3745-51-02; 3745-51-03; 3745-51-04; 3745-51-05; 3745-51-06; 3745-51-07; 3745-51-08; 3745-51-09; 3745-51-11; 3745-51-20; 3745-51-21; 3745-51-22; 3745-51-23; 3745-51-24; 3745-51-30; 3745-51-31; 3745-51-33; 3745-51-35; 3745-51-38; 3745-52-10; 3745-52-11; 3745-52-12; 3745-52-34; 3745-52-41; 3745-52-50; 3745-52-51; 3745-52-52; 3745-52-53; 3745-52-54; 3745-52-55; 3745-52-56; 3745-52-60; 3745-52-70; 3745-53-10; 3745-53-11; 3745-53-12; 3745-53-20; 3745-53-30; 3745-54-01; 3745-54-03; 3745-54-10; 3745-54-11; 3745-54-12; 3745-54-14; 3745-54-15; 3745-54-16; 3745-54-17; 3745-54-18; 3745-54-30; 3745-54-50; 3745-54-52; 3745-54-70; 3745-54-71; 3745-54-73; 3745-54-74; 3745-54-76; 3745-54-90; 3745-54-94; 3745-54-98; 3745-55-10; 3745-55-11; 3745-55-12; 3745-55-13; 3745-55-16; 3745-55-17; 3745-55-18; 3745-55-19; 3745-55-40; 3745-55-43; 3745-55-45; 3745-55-51; 3745-55-71; 3745-55-75; 3745-55-78; 3745-55-90; 3745-55-93; 3745-55-97; 3745-55-98; 3745-56-20; 3745-56-21; 3745-56-26; 3745-56-28; 3745-56-31; 3745-56-50; 3745-56-51; 3745-56-54; 3745-56-59; 3745-56-78; 3745-56-83; 3745-57-02; 3745-57-03; 3745-57-05; 3745-57-10; 3745-57-14; 3745-57-17; 3745-57-40; 3745-57-41; 3745-57-42; 3745-57-44; 3745-57-73; 3745-57-83; 3745-57-91; 3745-65-01; 3745-65-10; 3745-65-11; 3745-65-12; 3745-65-13; 3745-65-14; 3745-65-15; 3745-65-16; 3745-65-17; 3745-65-30; 3745-65-37; 3745-65-50; 3745-65-52; 3745-65-70; 3745-65-71; 3745-65-73; 3745-65-74; 3745-65-76; 3745-65-90; 3745-65-92; 3745-66-10; 3745-66-11; 3745-66-13; 3745-66-14; 3745-66-16; 3745-66-17; 3745-66-18; 3745-66-19; 3745-66-40; 3745-66-43; 3745-66-44; 3745-66-45; 3745-66-47; 3745-66-48; 3745-66-70; 3745-66-71; 3745-66-90; 3745-66-93; 3745-66-96; 3745-66-97; 3745-66-98; 3745-67-20; 3745-67-21; 3745-67-22; 3745-67-23; 3745-67-26; 3745-67-28; 3745-67-50; 3745-67-54; 3745-67-70; 3745-67-79; 3745-67-80; 3745-68-01; 3745-68-02; 3745-68-14; 3745-68-40; 3745-68-81; 3745-69-01, 3745-69-30, 3745-266-80; 3745-270-01; 3745-270-02; 3745-270-03; 3745-270-04; 3745-270-07; 3745-270-09; 3745-270-31; 3745-270-42; 3745-270-45; 3745-270-48; 3745-270-50; 3745-273-01; 3745-273-02; 3745-273-03; 3745-273-04; 3745-273-05; 3745-273-10; 3745-273-13; 3745-273-14; 3745-273-17; 3745-273-20; 3745-273-30; 3745-273-32; 3745-273-33; 3745-273-34; 3745-273-37; 3745-273-40; 3745-273-50; 3745-273-54; 3745-273-56; 3745-273-60; 3745-273-70; 3745-273-81; 3745-279-10; 3745-279-11; 3745-279-12; 3745-279-22; 3745-279-24; 3745-279-42; 3745-279-43; 3745-279-45; 3745-279-46; 3745-279-51; 3745-279-54; 3745-279-55; 3745-279-56; 3745-279-57; 3745-279-58; 3745-279-61; 3745-279-62; 3745-279-64; 3745-279-65; 3745-279-71; 3745-279-73; 3745-279-74; 3745-279-81; Effective December 7, 2004; 3745-270-40; Effective February 8, 2005.
CL-DIGIT | 3-digit rule number reference corrections | Rescinded rules: OAC 3745-49-031; 3745-50-221; 3745-50-222; 3745-50-311; 3745-50-312; 3745-50-313; 3745-50-314; 3745-50-315; 3745-50-316; 3745-55-01; 3745-55-011; 3745-56-33; 3745-56-60; 3745-57-72; 3745-58-30; 3745-58-31; 3745-58-32; 3745-58-33; 3745-58-60; 3745-58-70; 3745-66-991; 3745-66-992; 3745-68-011; 3745-218-01; 3745-218-011; 3745-218-02; 3745-248-01; 3745-248-011; 3745-248-02 Rescissions; Effective December 7, 2004.
|  | New and amended rules: 3745-50-10; 3745-50-19; 3745-50-20; 3745-50-23; 3745-50-24; 3745-50-25; 3745-50-26; 3745-50-27; 3745-50-28; 3745-50-29; 3745-50-30; 3745-50-40; 3745-50-44; 3745-50-45; 3745-50-46; 3745-50-48; 3745-50-51; 3745-50-57; 3745-51-01; 3745-51-02; 3745-51-03; 3745-51-04; 3745-51-05; 3745-51-06; 3745-51-07; 3745-51-08; 3745-51-09; 3745-51-20; 3745-51-32; 3745-51-38; 3745-52-10; 3745-52-11; 3745-52-34; 3745-52-41; 3745-52-70; 3745-53-12; 3745-54-01; 3745-54-03; 3745-54-12; 3745-54-13; 3745-54-14; 3745-54-16; 3745-54-17; 3745-54-18; 3745-54-52; 3745-54-73; 3745-54-74; 3745-54-76; 3745-54-90; 3745-54-91; 3745-54-98; 3745-54-99; 3745-54-100; 3745-54-101; 3745-55-10; 3745-55-11; 3745-55-12; 3745-55-13; 3745-55-17; 3745-55-18; 3745-55-40; 3745-55-42; 3745-55-43; 3745-55-45; 3745-55-51; 3745-55-71; 3745-55-75; 3745-55-93; 3745-56-31; 3745-56-50; 3745-56-59; 3745-56-80; 3745-57-03; 3745-57-10; 3745-57-17; 3745-57-71; 3745-57-73; 3745-57-83; 3745-57-92; 3745-65-01; 3745-65-12; 3745-65-13; 3745-65-14; 3745-65-16; 3745-65-17; 3745-65-52; 3745-65-56; 3745-65-73; 3745-65-74; 3745-66-10; 3745-66-11; 3745-66-12; 3745-66-13; 3745-66-19; 3745-66-40; 3745-66-42; 3745-66-43; 3745-66-45; 3745-66-71; 3745-66-90; 3745-66-93; 3745-66-100; 3745-66-101; 3745-68-05; 3745-68-81; 3745-69-01; 3745-205-100; 3745-205-101; 3745-205-102; 3745-256-100; 3745-256-101; 3745-256-102; 3745-266-20; 3745-266-21; 3745-266-22; 3745-266-23; 3745-266-70; 3745-266-80; 3745-270-04; 3745-270-07; 3745-270-31; 3745-270-50; 3745-273-01; 3745-273-02; 3745-273-03; 3745-273-13; 3745-273-17; 3745-273-33; 3745-273-37; 3745-273-54; 3745-273-60; 3745-279-10; 3745-279-12; 3745-279-22; 3745-279-45; 3745-279-54; 3745-279-64; 3745-279-81; Effective December 7, 2004.

G. Where Are the Revised State Rules Different From the Federal Rules?

Ohio has excluded the non-delegable Federal requirements at 40 CFR 268.5, 268.6, 268.42(b), 268.44, and 270.3. EPA will continue to implement those requirements. In this action, Ohio has chosen to remain more stringent in two rules. The first is the Hazardous Remediation Waste Management Requirements, (Checklist 175 above) by choosing not to adopt 40 CFR Sections 270.79 through 270.230 which allow for Remedial Action Plans (RAP). The RAP is considered to be less stringent. The second is the Liners and Leak Detection Systems for Hazardous Waste Disposal Units (Checklist 100 above). In this rule, Ohio is not adopting 40 CFR 270.4 which is the permit shield provision. Under Table 2 (Equivalent State Initiated Changes), sections 3745-50-33, 3745-50-34, 3745-50-35, and 3745-50-36 under HWFB, have also been amended. They are broader in scope fee rules, not authorizable in this action. This action involves no other more stringent or broader in scope State requirements.

H. Who Handles Permits After the Authorization Takes Effect?

Ohio will issue permits for all the provisions for which it is authorized and will administer the permits it issues. EPA will continue to administer any RCRA hazardous waste permits or portions of permits which we issued prior to the effective date of this authorization until they expire or are terminated. We will not issue any more new permits or new portions of permits for the provisions listed in the Table above after the effective date of this authorization. EPA will continue to implement and issue permits for HSWA requirements for which Ohio is not yet authorized.

I. How Does Today's Action Affect Indian Country (18 U.S.C. 1151) in Ohio?

Ohio is not authorized to carry out its hazardous waste program in “Indian Country,” as defined in 18 U.S.C. 1151. Indian Country includes:

1. All lands within the exterior boundaries of Indian reservations within the State of Ohio;

2. Any land held in trust by the U.S. for an Indian tribe; and

3. Any other land, whether on or off an Indian reservation that qualifies as Indian Country.

Therefore, EPA retains the authority to implement and administer the RCRA program in Indian Country. However, at this time, there is no Indian Country within the State of Ohio.

J. What Is Codification and Is EPA Codifying Ohio's Hazardous Waste Program as Authorized in This Rule?

Codification is the process of placing the State's statutes and regulations that comprise the State's authorized hazardous waste program into the Code of Federal Regulations. We do this by referencing the authorized State rules in 40 CFR part 272. Ohio's rules, up to and including those revised June 7, 1991, as corrected August 19, 1991, have previously been codified through the incorporation-by-reference effective February 4, 1992 (57 FR 4162) . We reserve the amendment of 40 CFR part 272, subpart KK for the codification of Ohio's program changes until a later date.

K. Statutory and Executive Order Reviews

This proposed rule only authorizes hazardous waste requirements pursuant to RCRA 3006 and imposes no requirements other than those imposed by State law (see Supplementary Information, Section A. Why are Revisions to State Programs Necessary?). Therefore this rule complies with applicable executive orders and statutory provisions as follows:

1. Executive Order 18266: Regulatory Planning Review

The Office of Management and Budget has exempted this rule from its review under Executive Order 12866 (58 FR 51735, October 4, 1993).

2. Paperwork Reduction Act

This rule does not impose an information collection burden under the provisions of the Paperwork Reduction Act of 1995 (44 U.S.C. 3501 et seq.).

3. Regulatory Flexibility Act

After considering the economic impacts of today's rule on small entities under the Regulatory Flexibility Act (5 U.S.C. 601 et seq.), I certify that this rule will not have a significant economic impact on a substantial number of small entities.

4. Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

5. Executive Order 13132: Federalism

Executive Order 13132 (64 FR 43255, August 10, 1999) does not apply to this rule because it will not have federalism implications (i.e., substantial direct effects on the States, on the relationship between the national government and the States, or on the distribution of power and responsibilities among the various levels of government).

6. Executive Order 13175: Consultation and Coordination With Indian Tribal Governments

Executive Order 13175 (65 FR 67249, November 9, 2000) does not apply to this rule because it will not have tribal implications (i.e., substantial direct effects on one or more Indian tribes, or on the relationship between the Federal Government and Indian tribes, or on the distribution of power and responsibilities between the Federal Government and Indian tribes.)

7. Executive Order 13045: Protection of Children From Environmental Health and Safety Risks

This rule is not subject to Executive Order 13045 (62 FR 19885, April 23, 1997), because it is not economically significant as defined in Executive Order 12866 and because the EPA does not have reason to believe the environmental health or safety risks addressed by this action present a disproportionate risk to children.

8. Executive Order 13211: Actions That Significantly Affect Energy Supply, Distribution, or Use

This rule is not subject to Executive Order 13211 (66 FR 28355, May 22, 2001), because it is not a significant regulatory action as defined in Executive Order 12866.

9. National Technology Transfer Advancement Act

EPA approves State programs as long as they meet criteria required by RCRA, so it would be inconsistent with applicable law for EPA, in its review of a State program, to require the use of any particular voluntary consensus standard in place of another standard that meets requirements of RCRA. Thus, the requirements of section 12(d) of the National Technology Transfer and Advancement Act of 1995 (15 U.S.C. 272 note) do not apply to this rule.

10. Executive Order 12988

As required by section 3 of Executive Order 12988 (61 FR 4729, February 7, 1996), in issuing this rule, EPA has taken the necessary steps to eliminate drafting errors and ambiguity, minimize potential litigation, and provide a clear legal standard for affected conduct.

11. Executive Order 12630: Evaluation of Risk and Avoidance of Unanticipated Takings

EPA has complied with Executive Order 12630 (53 FR 8859, March 18, 1988) by examining the takings implications of the rule in accordance with the Attorney General's Supplemental Guidelines for the Evaluation of Risk and Avoidance of Unanticipated Takings issued under the executive order.

12. Executive Order 12898: Federal Actions to Address Environmental Justice in Minority Populations and Low Income Populations

Because this rule proposes authorization of pre-existing State rules and imposes no additional requirements beyond those imposed by State law and there are no anticipated significant adverse human health or environmental effects, the rule is not subject to Executive Order 12898 (59 FR 7629, February 16, 1994).

13. Congressional Review Act

EPA will submit a report containing this rule and other information required by the Congressional Review Act (5 U.S.C. 801 et seq.) to the U.S. Senate, the U.S. House of Representatives, and the Comptroller General of the United States prior to publication in the Federal Register. A major rule cannot take effect until 60 days after it is published in the Federal Register. This action is not a “major rule” as defined by 5 U.S.C. 804(2).

List of Subjects in 40 CFR Part 271

Environmental protection, Administrative practice and procedure, Confidential business information, Hazardous materials transportation, Hazardous waste, Indians-lands, Intergovernmental relations, Penalties, Reporting and recordkeeping requirements.

Authority: This action is issued under the authority of sections 2002(a), 3006 and 7004(b) of the Solid Waste Disposal Act as amended 42 U.S.C. 6912(a), 6926, 6974(b).

Dated: May 24, 2007.
Walter Kovalick,
Acting Regional Administrator, Region 5.

[FR Doc. E7-10856 Filed 6-5-07; 8:45 am]

BILLING CODE 6560-50-P